DEPARTMENT OF HEALTH AND HUMAN SERVICES

Centers for Disease Control and Prevention

Disease, Disability, and Injury Prevention and Control Special Emphasis Panel (SEP): Combining Subjective and Objective Methods for Quantifying Contact Rates and Mixing Pattern in School-Aged Children, Funding Opportunity Announcement, CK11-006, Initial Review

Correction: The notice was published in the Federal Register on March 22, 2011, Volume 76, Number 55, Page 15984. The time, date, and place should read as follows:

Time And Date: 11 a.m.-2 p.m., May 3, 2011 (Closed).

Place: Teleconference.

Contact Person For More Information: Gregory Anderson, M.S., M.P.H., Scientific Review Officer, CDC, 1600 Clifton Road, NE., Mailstop E60, Atlanta, Georgia 30333, Telephone: (404) 498-2293.

The Director, Management Analysis and Services Office, has been delegated the authority to sign Federal Register notices pertaining to announcements of meetings and other committee management activities, for both the Centers for Disease Control and Prevention and the Agency for Toxic Substances and Disease Registry.

Dated: May 5, 2011.
Elaine L. Baker,
Director, Management Analysis and Services Office, Centers for Disease Control and Prevention.

[FR Doc. 2011-11523 Filed 5-10-11; 8:45 am]

BILLING CODE 4163-18-P